INTERNATIONAL TRADE COMMISSION

[Inv. No. 337-TA-435]

In the Matter of Certain Integrated Repeaters, Switches, Transceivers, and Products Containing Same; Notice That an Initial Determination Granting Complainants' Motion for Summary Determination That They Satisfy the Economic Prong of the Domestic Industry Requirement as to One Patent Has Become the Commission Determination by Operation of the Commission's Rules

AGENCY: U.S. International Trade Commission.

ACTION: Notice.

SUMMARY: Notice is hereby given that an initial determination (“ID”) issued by the presiding administrative law judge (“ALJ”) granting complainants” motion for summary determination that they satisfy the economic prong of the domestic industry requirement of section 337(a)(3) of the Tariff Act of 1930 as to U.S. Letters Patent 5,894,410 has become the determination of the Commission by operation of Commission rule 210.42(h)(3).

FOR FURTHER INFORMATION: Timothy P. Monaghan, Esq., Office of the General Counsel, U.S. International Trade Commission, 500 E Street, SW., Washington, DC 20436, telephone 202-205-3152.

SUPPLEMENTARY INFORMATION: The Commission instituted this patent-based section 337 investigation on August 17, 2000, based on a complaint filed by Intel Corp. (“Intel”) and Level One Communications, Inc. (“Level One”). The sole respondent named in the investigation is Altima Communications, Inc.

On February 26, 2001, complainants Intel and Level One moved pursuant to Commission rule 210.18 for summary determination that they satisfy the economic prong of the domestic industry requirement of section 337 as to U.S. Letters Patent 5,894,410.

On March 15, 2001, the ALJ issued an ID (Order No. 28) granting the motion. No petitions for review were filed.

This action is taken under the authority of section 337 of the Tariff Act of 1930, as amended, 19 U.S.C. 1337, and Commission rule 210.42, 19 CFR 210.42. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS-ON-LINE) at http://dockets.usitc.gov/eol/public.

Issued: July 23, 2001.
By order of the Commission.
Donna R. Koehnke,
Secretary.

[FR Doc. 01-18669 Filed 7-25-01; 8:45 am]

BILLING CODE 7020-02-P